DEPARTMENT OF LABOR

Employment and Training Administration

[TA-W-62,067]

Crosible, Inc. US Division Now Known as Clear Edge Filtration Moravia, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on September 12, 2007, applicable to workers and former workers of Crosible, Inc., U.S. Division, Moravia, New York. The notice was published in the Federal Register on September 27, 2007 (72 FR 54939).

At the request of a Clear Edge Filtration official, the Department reviewed the certification for workers of the subject firm. Workers produce filters, made of fabric, used for air and water filtration systems.

New information shows that in January 2008, Clear Edge Filtration merged with Crosible, Inc., that the new company name is Clear Edge Filtration, and that the company has a new Federal Tax Identification Number.

The new information also shows that some of the workers' wages are being reported under the State of New York Unemployment Insurance tax account for Clear Edge Filtration.

Accordingly, the Department is amending this certification to properly reflect this matter.

The intent of the Department's certification is to include all workers of Crosible, Inc., who were adversely affected by a shift of filter production to Mexico.

The amended notice applicable to TA-W-62,067 is hereby issued as follows:

“All workers of Crosible, Inc., U.S. Division, now known as Clear Edge Filtration, Moravia, New York, who became totally or partially separated from employment on or after August 27, 2006, through September 12, 2009, are eligible to apply for adjustment assistance under Section 223 of the Trade Act of 1974, and are also eligible to apply for alternative trade adjustment assistance under Section 246 of the Trade Act of 1974.”

Signed at Washington, DC, this 9th day of February 2009
Linda G. Poole,
Certifying Officer, Division of Trade Adjustment Assistance.

[FR Doc. E9-3726 Filed 2-20-09; 8:45 am]

BILLING CODE 4510-FN-P